DEPARTMENT OF HEALTH AND HUMAN SERVICES

Centers for Disease Control and Prevention

[30 Day-10-10BT]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-5806. Written comments should be received within 30 days of this notice.

Proposed Project

National Quitline Data Warehouse—New—National Center for Chronic Disease Prevention and Health Promotion (NCCDPHP), Centers for Disease Control and Prevention (CDC).

Background and Brief Description

Tobacco use remains the leading preventable cause of disease and death in the United States, resulting in approximately 440,000 deaths annually and contributing to $92 billion annually in lost worker productivity. Although the prevalence of current smoking among adults decreased significantly since its peak in the 1960s, overall smoking prevalence among U.S. adults has remained virtually unchanged during the past five years. Large disparities in smoking prevalence continue to exist among members of racial/ethnic minority groups and individuals of low socioeconomic status.

The National Tobacco Control Program (NTCP) was established by CDC to help reduce tobacco-related disease, disability, and death. The NTCP provides funding for state Quitlines, which provide telephone-based tobacco cessation services to help tobacco users quit. Quitlines overcome many of the barriers to tobacco cessation classes and traditional clinics because they are free and available at the caller's convenience. Quitline services in all states can be accessed through a toll-free national portal number at 1-800-QUIT-NOW. According to CDC's Best Practices for Comprehensive Tobacco Control, approximately six to eight percent of tobacco users potentially can be reached successfully by Quitlines; however, currently, only one to two percent of tobacco users contact Quitlines.

With funding authorized by the American Recovery and Reinvestment Act of 2009 (ARRA), CDC has provided additional support for the expansion of tobacco Quitline services. CDC is therefore requesting OMB approval to establish a National Quitline Data Warehouse (NDQW), and to collect information from the 50 states, the District of Columbia, Puerto Rico, and Guam. The principal information collection will be based on a uniform Minimum Data Set (MDS) developed collaboratively by the North American Quitline Consortium and other tobacco control organizations.

Quitline service providers will use a common interview instrument to collect information from all callers. A one-minute interview will be conducted with callers who contact the Quitline to obtain information on another person's behalf. Callers who contact the Quitline to obtain information or services for themselves will be asked to participate in a 10-minute interview. A random sample of callers who receive a Quitline service will be asked to participate in a short, voluntary follow-up interview seven months after intake.

In addition, to monitor and evaluate the expenditure of Recovery Act funding, CDC will collect a quarterly report about each Quitline program from the designated Tobacco Control Manager. These reports will be used to quantify improvements in the capacity of the Quitlines to assist tobacco users over time.

The information collected in the NQDW will be used to determine the role Quitlines play in promoting tobacco use cessation, measure the number of tobacco users being served by state Quitlines, determine reach of Quitlines to high-risk populations (e.g., racial and ethnic minorities and the medically underserved), measure the number using each state Quitline who quit, determine whether some combinations of services contribute to higher quit rates than others, and improve the timeliness, access to, and quality of data collected by Quitlines.

Information will be collected electronically for a two-year period. There are no costs to respondents other than their time. The total estimated annualized burden hours are 90,563.

Estimated Annualized Burden Hours
Type of respondent | Form name | Number of respondents | Number of responses per respondent | Average burden per response (in hours)
Caller who contacts the Quitline on behalf of someone else | Intake Questionnaire | 230,000 | 1 | 1/60
Caller who contacts the Quitline for personal use |  | 500,000 | 1 | 10/60
Quitline caller who received a Quitline service | Follow-up Questionnaire | 28,900 | 1 | 7/60
Tobacco Control Manager | Quitline Services Questionnaire | 53 | 4 | 7/60

Dated: May 13, 2010.
Maryam I. Daneshvar,
Reports Clearance Officer, Centers for Disease Control and Prevention.

[FR Doc. 2010-12181 Filed 5-20-10; 8:45 am]

BILLING CODE 4163-18-P